DEPARTMENT OF DEFENSE

Department of the Army

Preparation of the Brigade Combat Team Transformation Programmatic Environmental Impact Statement (PEIS), Fort Irwin, CA

AGENCY: Department of the Army, DoD.

ACTION: Notice of intent.

SUMMARY: The Army Installation Management Agency and the Fort Irwin National Training Center will prepare a PEIS to analyze the impacts of mission realignment in support of the Army Transformation, the Army Campaign Plan, and other Army initiatives. Under the proposed action, the 11th Armored Cavalry Regiment will expand to become a full-size, multi-component Heavy Brigade Combat Team (BCT), deployable throughout the world. Other, smaller units will also be stationed at Fort Irwin. Training rotations will increase from 10 per year to 12. The PEIS will evaluate the new construction, new land use, and changes in training, area use necessary to implement the proposed action at Fort Irwin.

FOR FURTHER INFORMATION CONTACT: Public Affairs Office: Major John Clearwater, Attention: IMSW-IRW-PA Fort Irwin, CA 92310; telephone: (760) 380-3078; or Directorate of Public Works: Mr. Mickey Quillman, Attention: PEIS; IMSW-IRW-PWE, Building 602, Fort Irwin, CA 92310; fax: (760) 380-2677, or e-mail mickey.quillman@irwin.army.mil.

SUPPLEMENTARY INFORMATION: The PEIS will assess the environmental impacts associated with the stationing and training of new soldiers at Fort Irwin. Under the proposed action, approximately 690 additional soldiers would be stationed at Fort Irwin, with approximately 760 family members accompanying them. The proposed action will increase training by about 20% on all Fort Irwin training areas and may involve some new range construction. This increased usage will ultimately involve the maneuver training areas into which Fort Irwin expanded, as decided in 2006. The proposed action will result in additional construction in the Fort Irwin cantonment area for such projects as soldier and family housing, schools, infrastructure, utilities, and related facilities. These changes would provide the capability to train additional units and represent a realignment of existing missions for the installation. The action may have environmental impacts to air quality, water usage, waste water and other utilities, and biological resources. Fort Irwin will continue to train rotational units and would now support the 11th Armored Cavalry Regiment (ACR), a multi-component Heavy BCT.

A range of reasonable alternatives, including an alternative of considering no action as required by the National Environmental Policy Act, will be developed and analyzed in the PEIS. The range of alternatives will include varying amounts of new construction and training area changes. During the scoping process, other alternatives may be developed and added for consideration. The PEIS will also analyze each alternative's impact upon the natural, cultural, and man-made environments at Fort Irwin and in the surrounding region.

Tribal, Federal, state and local agencies, as well as the public are invited to participate in the scoping process for the preparation of this PEIS. Scoping meetings will be held in convenient locations near the installation. Notification of the times and locations for the scoping meetings will be published in local newspapers. The scoping process will help identify additional possible alternatives, potential environmental impacts, and key issues of concern to be analyzed in the PEIS. To ensure scoping comments are fully considered in the Draft PEIS, comments and suggestions should be received within the 30-day scoping period or no later than 15 days following the last scoping meeting, whichever is later.

Dated: August 8, 2006.
Addison D. Davis, IV,
Deputy Assistant Secretary of the Army, (Environment, Safety and Occupational Health), OASA(I&E).

[FR Doc. 06-7054 Filed 8-18-06; 8:45 am]

BILLING CODE 3710-08-M